DEPARTMENT OF COMMERCE

National Oceanic and Atmospheric Administration

[I.D. 030404F]

Endangered and Threatened Species; Take of Anadromous Fish

AGENCY: National Marine Fisheries Service (NMFS), National Oceanic and Atmospheric Administration (NOAA), Commerce.

ACTION: Applications for three scientific research permits (1127, 1465, 1469) and two permit modifications (1119, 1366).

SUMMARY: Notice is hereby given that NMFS has received three scientific research permit applications and two applications to modify existing permits relating to Pacific salmon and steelhead. All of the proposed research is intended to increase knowledge of species listed under the Endangered Species Act (ESA) and to help guide management and conservation efforts.

DATES: Comments or requests for a public hearing on the applications or modification requests must be received at the appropriate address or fax number (see ADDRESSES) no later than 5 p.m. Pacific daylight-saving time on April 12, 2004.

ADDRESSES: Written comments on the applications or modification requests should be sent to Protected Resources Division, NMFS, F/NWO3, 525 NE Oregon Street, Suite 500, Portland, OR 97232-2737. Comments may also be sent via fax to 503-230-5435 or by e-mail to resapps.nwr@noaa.gov.

FOR FURTHER INFORMATION CONTACT: Garth Griffin, Portland, OR (ph.: 503-231-2005, Fax: 503-230-5435, e-mail: Garth.Griffin@noaa.gov). Permit application instructions are available at http://www.nwr.noaa.gov

SUPPLEMENTARY INFORMATION:

Species Covered in This Notice

The following listed species and evolutionarily significant units (ESUs) are covered in this notice:

Sockeye salmon (Oncorhynchus nerka): endangered Snake River (SR).

Chinook salmon (O. tshawytscha): endangered natural and artificially propagated upper Columbia River (UCR); threatened natural and artificially propagated SR spring/summer (spr/sum); threatened SR fall; threatened lower Columbia River (LCR).

Steelhead (O. mykiss): threatened SR; threatened middle Columbia River (MCR); endangered UCR, threatened LCR.

Coho Salmon (O. kisutch): threatened Southern Oregon/Northern California Coast (SONCC).

Authority

Scientific research permits are issued in accordance with section 10(a)(1)(A) of the ESA (16 U.S.C. 1531 et seq.) and regulations governing listed fish and wildlife permits (50 CFR 222-226). NMFS issues permits/modifications based on findings that such permits and modifications: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Applications Received

Permit 1119 - Modification 1

The U.S. Fish and Wildlife Service (FWS) is seeking to modify its 5-year permit covering five studies that, among them, would annually take adult and juvenile endangered UCR spring chinook salmon (natural and artificially propagated) and UCR steelhead (natural and artificially propagated) at various points in the Wenatchee, Entiat, Methow, Okanogan, and Yakima River watersheds and other points in eastern Washington State. The research was originally conducted under Permit 1119, which was in place for 5 years (63 FR 27055) with two amendments (65 FR 11288, 66 FR 38641); it expired on December 31, 2002. A new permit was granted for the research in 2003, and the FWS is seeking to modify that permit to change the take allotment and add a sixth study. Over the years, there have been some changes in the research (e.g., the aforementioned amendments) and they are reflected in this proposal. Nonetheless, the proposed projects are largely continuations of ongoing research. They are: Study 1-Recovery of ESA-listed Entiat River Salmonids through Improved Management Actions; Study 2-From extirpation to colonization: an attempt to restore salmon back to their former streams; Study 3-Entiat Basin Spawning Ground Surveys; Study 4-Snorkel Surveys in the Wenatchee, Entiat, Methow, Okanogan, and Yakima Watersheds and Other Waterways of Eastern Washington; Study 5-Fish Salvage Activities in the Wenatchee, Entiat, Methow, Okanogan, and Yakima Watersheds and other Waterways of Eastern Washington; Study 6-Icicle Creek Salmonid Production and Life History Investigations. Under these studies, listed adult and juvenile salmon and steelhead would be variously (a) captured (using nets, traps, and electrofishing equipment) and anesthetized; (b) sampled for biological information and tissue samples; (c) tagged with passive integrated transponders (PIT tags) or other identifiers; (d) marked and recaptured to determine trap efficiency, and (e) released.

The research has many purposes and would benefit listed salmon and steelhead in different ways. In general, the purposes of the research are to (a) gain current information on the status and productivity of various fish populations (to be used in determining the effectiveness of restoration programs); (b) collect data on the how well artificial propagation programs are helping salmon recovery efforts (looking at hatchery and wild fish interactions); (c) support the aquatic species restoration goals found in several regional plans; and (d) fulfill ESA requirements for several fish hatcheries. The fish would benefit through improved recovery actions, better designs for hatchery supplementation programs, and by being rescued outright when they are stranded by low flows in Eastern Washington streams. The FWS does not intend to kill any of the fish being captured, but a small percentage may die as an unintended result of the research activities.

Permit 1127

The Shoshone-Bannock Tribe is seeking to renew a 5-year permit to annually take threatened juvenile and adult SR spr/sum chinook salmon and steelhead during the course of two research projects in the Salmon River subbasin: The Snake River Habitat Enhancement (SRHE) project and the Idaho Supplementation Studies (ISS) project. Under the two ongoing projects (the SRHE was initiated in 1984, the ISS in 1998), the fish would be variously observed, captured, anesthetized, handled, implanted with passive integrated transponder (PIT) tags, allowed to recover, and released back to the habitats from which they were taken.

The purposes of the research are to (a) monitor adult and juvenile fish in key upper SR basin watersheds, (b) assess the utility of hatchery chinook salmon in increasing natural populations in the Salmon and Clearwater Rivers, and (c) evaluate the genetic and ecological impacts of hatchery chinook salmon on natural populations. The fish will primarily benefit from the research in two ways. First, the research will broadly be used to help guide restoration and recovery efforts throughout the SR basin. Second, and more specifically, the research will be used to determine how hatchery supplementation can be used as a tool for salmon recovery. The Shoshone-Bannock Tribe does not intend to kill any of the fish being captured, but some may die as an unintended result of the research.

Permit 1366 - Modification 2

The Oregon Cooperative Fish and Wildlife Research Unit (OCFWRU) is asking to modify its 5-year permit allowing it to annually take juvenile threatened SR fall chinook salmon; juvenile threatened SR spring/summer chinook salmon (natural and artificially propagated); juvenile endangered UCR spring chinook salmon (natural and artificially propagated); juvenile threatened LCR chinook salmon; juvenile endangered UCR steelhead (natural and artificially propagated); juvenile threatened LCR steelhead; juvenile threatened MCR steelhead; juvenile threatened SR steelhead; and juvenile endangered SR sockeye salmon at various dams on the Columbia and Snake Rivers. The research is largely a continuation of four ongoing studies in the lower Snake and Columbia Rivers, but only one, Study 4 Evaluation of Migration and Survival of Juvenile Salmonids Following Transportation would be modified. Under this study, juvenile listed salmonids would be variously (a) captured using lift nets or dipnets at the dams (or acquired from Columbia River Smolt Monitoring Program or NMFS personnel at Bonneville Dam), (b) sampled for biological information or tagged with radiotransmitters, and (c) released. The OCFWRU does not intend to kill any of the fish being captured, but a small percentage may die as an unintended result of the research activities.

The research has many purposes and would benefit listed salmon and steelhead in different ways. In general, the purpose of the research is to compare biological and physiological indices of wild and hatchery juvenile fish exposed to stress during bypass, collection, and transportation activities at the dams. The research will benefit the listed species by helping determine what effects the dams and their associated structures and management activities transportation, in particular have on the outmigrating salmonids and using that information modify those factors in ways that increase salmonid survival.

Permit 1465

The Idaho Department of Environmental Quality (IDEQ) is requesting a 5-year permit to annually take juvenile threatened SR steelhead, fall chinook salmon, spr/sum chinook salmon, and endangered SR sockeye salmon during the course of two research projects designed to ascertain the condition of many Idaho streams and determine the degree to which they meet certain critical stream health parameters. The fish will largely be captured using backpack electrofishing equipment (though boat electrofishing equipment may also be used), weighed and measured (some may be anesthetized to limit stress), and released. The IDEQ does not intend to kill any of the fish being captured, but a small percentage may die as an unintended result of the research activities.

The purposes of the research are to (a) determine whether aquatic life is being properly supported in Idaho's rivers, streams and lakes, and (b) assess the overall condition of Idaho's surface waters. The fish will benefit from the research because the data it produces will be used to inform decisions about how and where to protect and improve water quality in the State.

Permit 1469

The Ecosystems Research Institute (ERI) is requesting a 2-year research permit to annually handle threatened juvenile SONCC coho salmon in the Applegate River. The purpose of the research is to measure outmigration rates from the Applegate Reservoir to determine current fish entrainment and mortality. The ERI is proposing to construct a hydroelectric power plant on the Applegate Dam. The study is needed to determine the impacts the project's hydroelectric turbines would have on outmigrating reservoir fish. The research will benefit natural SONCC coho by providing current outmigration estimates of artificially propagated coho and gamefish that may affect the SONCC population through genetic introgression and by predation. The ERI proposes to capture the fish (using a screw trap), anesthetize them, check them for the presence of an adipose clip, measure them, allow to them recover, and release them. The ERI does not intend to kill any of the fish being captured, but a small percentage may die as an unintended result of the research activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: March 8, 2004.
Phil Williams,
Chief, Endangered Species Division, Office of Protected Resources, National Marine Fisheries Service.

[FR Doc. 04-5696 Filed 3-11-04; 8:45 am]

BILLING CODE 3510-22-S